DEPARTMENT OF ENERGY

Federal Energy Regulatory Commission

[Docket No. CP00-401-001]

AltaGas Facilities (U.S.) Inc. Suprex Energy Corporation; Notice of Application To Amend Natural Gas Act Section 3 Authorization and Issue a Presidential Permit

April 18, 2001.

Take notice that on April 12, 2001, AltaGas Facilities (U.S.) Inc. (AltaGas) 355-4th Avenue SW., Suite 1700, Calgary, Alberta, T2P 0J1; and Superx Energy Corporation, (Suprex Energy) 435-4th Avenue SW., Suite 450, Calgary, Alberta, T2P 3A8, filed an application in Docket No. CP00-401-001 seeking a new Presidential Permit, pursuant to Executive Orders Nos. 10485 and 12038, and an amended Natural Gas Act Section 3 authorization. These requests are pursuant to Part 153 of the Commission's Regulations, particularly Section 153.9(b), all as more fully described in the joint application. The details of joint application are set forth in the filing, which is on file with the Commission and open to public inspection. The text of this application may also be viewed at http://www.ferc.fed.us/online/rims.htm (call 202-208-2222 for help). Any initial questions regarding the application should be directed to Nello W. Marano, President of Suprex Energy, at the above address or by phone at (403) 294-1454.

On October 27, 2000, Suprex Energy was authorized by the Commission in Docket No. CP00-401-000 to site, construct, operate, maintain, and connect pipeline facilities at the International Boundary between the United States and Canada in Toole County, Montana. AltaGas now requests that Suprex Energy's Presidential Permit and Section 3 authority, as described in the Commission's October 27, 2000 Order, be transferred to it. The design and location of the facilities would still be as previously approved; the 30 foot border crossing section of a new 6-inch diameter natural gas gathering pipeline in Toole County, Montana. The purpose of the facilities would still be for the importing unprocessed natural gas into the United States from Canada. AltaGas and Suprex Energy say that AltaGas's requests to have these authorizations transferred to it is an involuntary transfer which is the result of Suprex Energy's debt reduction plans, as approved and required by Canadian court action.

Any person desiring to be heard or to make any protest with reference to said application should on or before May 2, 2001, file with the Federal Energy Regulatory Commission, 888 First Street, NE, Washington, DC 20426, a motion to intervene or a protest in accordance with the requirements of the Commission's Rules of Practice and Procedure, 18 CFR 385.211 or 385.214, and the Commission's Regulations under the Natural Gas Act, 18 CFR 157.10. All protests filed with the Commission will be considered by it in determining the appropriate action to be taken, but will not serve to make the protestants parties to the proceeding. Any person wishing to become a party to a proceeding or to participate as a party in any hearing therein must file a motion to intervene in accordance with the Commission's Rules of Practice and Procedure. Comments, protests and interventions may be filed electronically via the internet in lieu of paper. See, 18 CFR 385.2001(a)(1)(iii) and the instructions on the Commission's web site at http://www.ferc.fed.us/efi/doorbell.htm.

Take further notice that, pursuant to the authority contained in and subject to jurisdiction conferred upon the Federal Energy Regulatory Commission by Sections 3 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given. Under the procedure herein provided for, unless otherwise advised, it will be unnecessary for Coral Mexico to appear or be represented at the hearing.

David P. Boergers,
Secretary.

[FR Doc. 01-10043 Filed 4-23-01; 8:45 am]

BILLING CODE 6717-01-M